DEPARTMENT OF TRANSPORTATION

Surface Transportation Board

49 CFR Part 1201

[STB Ex Parte No. 634]

Consolidated Reporting By Commonly Controlled Railroads

AGENCY: Surface Transportation Board, DOT.

ACTION: Final rule.

SUMMARY: The Board has concluded that consolidated financial reports should be filed for each group of railroads or railroad-related affiliates that operate as a single, integrated United States rail system whose cumulative annual operating revenues meet the Class I threshold of $250 million (in 1991 dollars).

EFFECTIVE DATE: January 1, 2002.

FOR FURTHER INFORMATION CONTACT: Paul A. Aguiar, (202) 565-1527. [Assistance for the hearing impaired is available through the Federal Information Relay Service (FIRS) 1-800-877-8339.]

SUPPLEMENTARY INFORMATION: On September 25, 2000, the Board proposed that commonly controlled railroads (and their railroad-related affiliates) whose combined annual operating revenues meet the $250 million threshold be required to file consolidated financial reports. See 65 FR 57650 (2000). The Board's objective was to gather more meaningful and accurate information on the large rail systems operating in the United States by conforming its regulatory reporting requirements as closely as practical to Financial Accounting Standards Board Statement No. 94, Consolidation of All Majority-Owned Subsidiaries. After evaluating the comments filed by interested parties, the Board has concluded that consolidated reports should be required for commonly controlled railroads that operate as a single, integrated United States rail system and whose cumulative operating revenues meet the Class I threshold. Accordingly, the Board will amend its regulations at 49 CFR part 1201 to reflect this change. A printed copy of the full Board decision served November 7, 2001 in this proceeding is available for a fee by contacting Da 2 Da Legal, Room 405, 1925 K Street, NW., Washington, DC 20006, telephone (202) 293-7776. The decision also is available for viewing and downloading via the Board's website at www.stb.dot.gov.

List of Subjects in 49 CFR Part 1201

Freight, Railroads, Reporting and recordkeeping requirements.

For the reasons set forth in the preamble, Title 49, part 1201 of the Code of Federal Regulations will be amended as follows:

PART 1201—[AMENDED]

1. The authority citation for Title 49, Part 1201 continues to read as follows:

Authority: 5 U.S.C. 553 and 49 U.S.C. 11142 and 11164.

2. Section 1-1 is amended by revising paragraph (b)(1) to read as follows: 1-1 Classification of Carriers. * * *

(b)(1) The class to which any carrier belongs shall be determined by annual carrier operating revenues after the railroad revenue deflator adjustment. Families of railroads operating within the United States as a single, integrated rail system will be treated as a single carrier for classification purposes. Upward and downward reclassification will be effected as of January 1 in the year immediately following the third consecutive year of revenue qualification.

* * * * *

Decided: October 31, 2001.
By the Board, Chairman Morgan, Vice Chairman Clyburn, and Commissioner Burkes.
Vernon A. Williams,
Secretary.

[FR Doc. 01-27950 Filed 11-6-01; 8:45 am]

BILLING CODE 4915-00-P